COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities, and deletes product(s) and service(s) previously furnished by such agencies.

DATES: Comments must be received on or before: March 23, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Additions

In accordance with 41 CFR 51-2.4(b), Government personnel within the contracting activity have identified this as a product requirement not applicable to other Federal entities and has requested the Committee consider granting a purchase or distribution preference if the product is added to the Procurement List. See 71 FR 69536 (Dec. 1, 2006). If the Committee grants this request, the product will not be available through the U.S. AbilityOne Commission's Commercial Distribution Program. The Committee will consider this request along with relevant comments received from interested parties. If the Committee adds this product to the Procurement List, direct orders for this product may be authorized per 41 CFR 51-6.1 and Federal Acquisition Regulation 8.705-2 if sufficient quantities are available for direct purchase.

If the Committee approves the proposed additions, the entities of the Federal Government identified in this notice will be required to procure the product(s) listed below from nonprofit agencies employing persons who are blind or have other severe disabilities.

The following product(s) are proposed for addition to the Procurement List for production by the nonprofit agencies listed:

NSN(s)—Product Name(s):

6515-01-697-3028—System, Rigid Immobilization for Extremities

Authorized Source of Supply: Alphapointe, Kansas City, MO

Mandatory For: DEFENSE LOGISTICS AGENCY, DLA TROOP SUPPORT

Contracting Activity: DEFENSE LOGISTICS AGENCY, DLA TROOP SUPPORT

Distribution: C-List

NSN(s)—Product Name(s):

8445-01-720-5640—Cravat, Women's, Space Force, Service Dress, Dark Navy

Authorized Source of Supply: Northeastern Association of the Blind at Albany, Inc., Albany, NY

Mandatory For: DEFENSE LOGISTICS AGENCY, DLA TROOP SUPPORT

Contracting Activity: DEFENSE LOGISTICS AGENCY, DLA TROOP SUPPORT

Distribution: C-List

Product(s)

NSN(s)—Product Name(s):

6515-00-NIB-8242—Scope, Endoscopy, Cysto, Flexible, Single-Use, Standard Deflection, BX/5

6515-00-NIB-8243—Scope, Endoscopy, Cysto, Flexible, Single-Use, Standard Deflection, CS/20

6515-00-NIB-8244—Scope, Endoscopy, Cysto, Flexible, Single-Use, Reverse Deflection, BX/5

6515-00-NIB-8245—Scope, Endoscopy, Cysto, Flexible, Single-Use, Reverse Deflection, CS/20

6515-00-NIB-8246—Scope, Nasal, Endoscopy, Laryngoscopy, 3.5mm Insertion Portion. BX/5

650020101N—Scope, Nasal, Endoscopy, Laryngoscopy, 3.5mm Insertion Portion, CS/20

650020201N—Scope, Endoscopy, Bronchoscope, Single Use, Large, BX/5

650020301N—

650021201N—

650021202N—Scope, Endoscopy, Bronchoscope, Single Use, Large, CS/20

650021203N—Scope, Endoscopy, Bronchoscope, Single Use, Regular, BX/5

650021204N—Endoscopy, Bronchoscope, Single Use, Regular, CS/20

650021205N—Scope, Endoscopy, Bronchoscope, Single Use, Slim, BX/5

650021206N—Scope, Endoscopy, Bronchoscope, Single Use, Slim, CS/20

Authorized Source of Supply: BOSMA Enterprises, Indianapolis, IN

Mandatory For: Broad Government Requirement

Contracting Activity: DEFENSE LOGISTICS AGENCY, DLA TROOP SUPPORT

Distribution: B-List

Deletions

The following product(s) and service(s) are proposed for deletion from the Procurement List:

Product(s)

NSN(s)—Product Name(s):

8415-01-490-4368—Drawers, Chemical Protection Drawers, CPU, Army/Navy, Long, Black, 26

8415-01-490-4371—Drawers, Chemical Protection Drawers, CPU, Army/Navy, Long, Black, 28

8415-01-490-4372—Drawers, Chemical Protection Drawers, CPU, Army/Navy, Long, Black, 30

8415-01-490-4374—Drawers, Chemical Protection Drawers, CPU, Army/Navy, Long, Black, 32

8415-01-490-4376—Drawers, Chemical Protection Drawers, CPU, Army/Navy, Long, Black, 34

8415-01-490-4378—Drawers, Chemical Protection Drawers, CPU, Army/Navy, Long, Black, 36

8415-01-490-4379—Drawers, Chemical Protection Drawers, CPU, Army/Navy, Long, Black, 38

8415-01-490-4380—Drawers, Chemical Protection Drawers, CPU, Army/Navy, Long, Black, 40

8415-01-490-4381—Drawers, Chemical Protection Drawers, CPU, Army/Navy, Long, Black, 42

8415-01-490-4382—Drawers, Chemical Protection Drawers, CPU, Army/Navy, Long, Black, 44

8415-01-490-4383—Drawers, Chemical Protection Drawers, CPU, Army/Navy, Long, Black, 46

8415-01-490-4384—Drawers, Chemical Protection Drawers, CPU, Army/Navy, Long, Black, 48

Authorized Source of Supply: Peckham Vocational Industries, Inc., Lansing, MI

Authorized Source of Supply: ReadyOne Industries, Inc., El Paso, TX

Contracting Activity: W6QK ACC-APG NATICK, NATICK, MA

Contracting Activity: DLA TROOP SUPPORT, PHILADELPHIA, PA

NSN(s)—Product Name(s):

8415-01-497-7963—Shirt, Underwear, Chemical Protective Turtleneck Type 2, Army, Long Sleeved, Black, 32

8415-01-497-7966—Shirt, Underwear, Chemical Protective Turtleneck Type 2, Army, Long Sleeved, Black, 34

8415-01-497-7967—Shirt, Underwear, Chemical Protective Turtleneck Type 2, Army, Long Sleeved, Black, 36

8415-01-497-7969—Shirt, Underwear, Chemical Protective Turtleneck Type 2, Army, Long Sleeved, Black, 38

8415-01-497-7975—Shirt, Underwear, Chemical Protective Turtleneck Type 2, Army, Long Sleeved, Black, 40

8415-01-497-7976—Shirt, Underwear, Chemical Protective Turtleneck Type 2, Army, Long Sleeved, Black, 42

8415-01-497-7977—Shirt, Underwear, Chemical Protective Turtleneck Type 2, Army, Long Sleeved, Black, 44

8415-01-497-7978—Shirt, Underwear, Chemical Protective Turtleneck Type 2, Army, Long Sleeved, Black, 46

8415-01-497-7980—Shirt, Underwear, Chemical Protective Turtleneck Type 2, Army, Long Sleeved, Black, 48

8415-01-497-7982—Shirt, Underwear, Chemical Protective Turtleneck Type 2, Army, Long Sleeved, Black, 50

8415-01-497-7983—Shirt, Underwear, Chemical Protective Turtleneck Type 2, Army, Long Sleeved, Black, 52

8415-01-497-7984—Shirt, Underwear, Chemical Protective Turtleneck Type 2, Army, Long Sleeved, Black, 54

Authorized Source of Supply: Peckham Vocational Industries, Inc., Lansing, MI

Authorized Source of Supply: ReadyOne Industries, Inc., El Paso, TX

Contracting Activity: W6QK ACC-APG NATICK, NATICK, MA

Contracting Activity: DLA TROOP SUPPORT, PHILADELPHIA, PA

NSN(s)—Product Name(s):

8415-01-605-0217—Hood, Lightweight, Performance, Fire Resistant, Type II, Army, Unisex, Tan

8415-01-605-0219—Hood, Lightweight, Performance, Fire Resistant, Type II, Army, Unisex, Green

Authorized Source of Supply: Southeastern Kentucky Rehabilitation Industries, Inc., Corbin, KY

Authorized Source of Supply: Dawn Enterprises, Inc., Blackfoot, ID

Contracting Activity: W6QK ACC-APG NATICK, NATICK, MA

Service(s)

Service Type: Sourcing, Cutting, Kitting and Fulfillment Service

Mandatory for: Federal Prison Industries, Washington, DC—Pre-Cut Kit, OTV, Flame Retardant; 400 1st Street NW, Washington, DC

Authorized Source of Supply: Blind Industries & Services of Maryland, Baltimore, MD

Contracting Activity: FEDERAL PRISON SYSTEM/BUREAU OF PRISONS, CO BUSINESS OFFICE

Service Type: Grounds Maintenance

Mandatory for: Department of Veterans Affairs, VA Nebraska-Western Iowa Health Care System, Omaha Campus, 4101 Woolworth Avenue Omaha, NE

Authorized Source of Supply: Goodwill Specialty Services, Inc., Omaha, NE

Contracting Activity: VETERANS AFFAIRS, DEPARTMENT OF, 438-SIOUX FALLS VA MED CTR (00438)

Service Type: Custodial service

Mandatory for: Bureau of Land Management, Cliffside Gas Field Facility, 13301 Brickplant Road Amarillo, TX

Authorized Source of Supply: World Technical Services, Inc., San Antonio, TX

Contracting Activity: BUREAU OF LAND MANAGEMENT, NATIONAL OPERATIONS CENTER

Service Type: Administrative Support Service

Mandatory for: US Army, Fort Bragg, 3358 Knox Street Fort Bragg, NC

Authorized Source of Supply: Employment Source, Inc., Fayetteville, NC

Contracting Activity: DEPT OF THE ARMY, W6QM MICC FDO FT LIBERTY

Michael R. Jurkowski,
Director, Business Operations.

[FR Doc. 2025-02915 Filed 2-20-25; 8:45 am]

BILLING CODE 6353-01-P